Title 3—

The President

Presidential Determination No. 2005-28 of July 12, 2005

Presidential Determination Regarding Drawdown Under Section 506(a)(2) of the Foreign Assistance Act 1961, as amended, to Furnish Anti Terrorism Assistance to the Philippines

Memorandum for the Secretary of State [and] the Secretary of Defense

Pursuant to the authority vested in me by the Constitution and laws of the United States, including section 506(a)(2) of the Foreign Assistance Act of 1961, as amended, 22 U.S.C. 2318(a)(2)(the “Act”), I hereby determine that it is in the national interest of the United States to draw down articles, services, military education, and training from the Department of Defense for the purpose of providing anti-terrorism assistance for the Philippines.

I therefore direct the drawdown of up to $10 million of articles, services, military education, and training from the inventory and resources of the Department of Defense for the Philippines for the purposes and under the authorities of chapter 8 of part II of the Act.

The Secretary of State is authorized and directed to report this determination to the Congress and to arrange for its publication in the Federal Register.

B

THE WHITE HOUSE,

Washington, July 12, 2005.

[FR Doc. 05-14450

Filed 7-19-05; 8:45 am]

Billing code 4710-10-P